DEPARTMENT OF COMMERCE

Foreign-Trade Zones Board

[B-55-2025]

Foreign-Trade Zone (FTZ) 210, Notification of Proposed Production Activity; P.J. Wallbank Springs, Inc.; (Spring Pack Assemblies Used in Automotive Transmissions); Port Huron, Michigan

P.J. Wallbank Springs, Inc. submitted a notification of proposed production activity to the FTZ Board (the Board) for its facility in Port Huron, Michigan within FTZ 210. The notification conforming to the requirements of the Board's regulations (15 CFR 400.22) was received on December 29, 2025.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include parts of clutches for motor transport vehicles (duty rate of 2.5%).

The proposed foreign-status materials/components include stamped steel (duty rate of 2.9%). The request indicates that certain materials/components are subject to duties under section 1702(a)(1)(B) of the International Emergency Economic Powers Act (section 1702) or section 232 of the Trade Expansion Act of 1962 (section 232), depending on the country of origin. The applicable section 1702 and section 232 decisions require subject merchandise to be admitted to FTZs in privileged foreign status (19 CFR 146.41).

Public comment is invited from interested parties. Submissions shall be addressed to the Board's Executive Secretary and sent to: ftz@trade.gov. The closing period for their receipt is February 9, 2026.

A copy of the notification will be available for public inspection in the “Online FTZ Information System” section of the Board's website.

For further information, contact Brian Warnes at brian.warnes@trade.gov.

Dated: December 29, 2025.
Elizabeth Whiteman,
Executive Secretary.

[FR Doc. 2025-24112 Filed 12-30-25; 8:45 am]

BILLING CODE 3510-DS-P